FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted December 1, 2015 thru December 31, 2015
12/01/2015
20151413 | G | Waste Management Inc.; Southern Waste Systems Holdings, LP; Waste Management Inc.
20160186 | G | Green Equity Investors Side VI, L.P.; Ensemble Investors, L.P.; Green Equity Investors Side VI, L.P.
20160188 | G | Green Equity Investors VI, L.P.; Ensemble Investors, L.P.; Green Equity Investors VI, L.P.
20160194 | G | TPG VII Ensemble Co-Invest, L.P.; Ensemble Investors, L.P.; TPG VII Ensemble Co-Invest, L.P. 20160218 G Acuity Brands, Inc.; Schneider Electric SE; Acuity Brands, Inc.
20160270 | G | Liberty Interactive Corporation; Lending Tree, Inc.; Liberty Interactive Corporation.
20160271 | G | Metawater Co., Ltd.; John D. Brubaker; Metawater Co., Ltd.
20160299 | G | Brenntag AG; David J. Waltz; Brenntag AG.
20160300 | G | Hon Hai Precision Industry Company Limited; Avago Technologies Limited; Hon Hai Precision Industry Company Limited.
20160306 | G | Simonpietro Salini; Lane Industries Incorporated; Simonpietro Salini.
20160340 | G | Rizvi Opportunistic Equity Fund III, L.P.; RealD Inc.; Rizvi Opportunistic Equity Fund III, L.P.
12/02/2015
20160292 | G | Verizon Communications Inc.; AT&T Inc.; Verizon Communications Inc.
20160293 | G | AT&T; Verizon Communications Inc.; AT&T.
20160332 | G | Tailwind Capital Partners II, L.P.; Distinct Holdings, Inc.; Tailwind Capital Partners II, L.P.
20160333 | G | Shire plc; Dyax Corp.; Shire plc.
20160345 | G | CONMED Corporation; SurgiQuest, Inc.; CONMED Corporation.
20160351 | G | Callaway Golf Company; TopGolf International, Inc.; Callaway Golf Company.
20160362 | G | GTCR Fund XI/B LP; WV AIV II (PPT), LLC; GTCR Fund XI/B LP.
20160378 | G | Reliance Steel & Aluminum Co.; TSI Holding Company Voting Trust Agreement dated September; Reliance Steel & Aluminum Co.
12/03/2015
20151091 | G | ARRIS Group, Inc.; Pace plc; ARRIS Group, Inc.
20160189 | G | JANA Nirvana Offshore Fund, Ltd.; Mattel, Inc.; JANA Nirvana Offshore Fund, Ltd.
20160190 | G | JANA Offshore Partners, Ltd.; Mattel, Inc.; JANA Offshore Partners, Ltd.
20160198 | G | Tsinghua Holdings Co., Ltd.; Western Digital Corporation; Tsinghua Holdings Co., Ltd.
20160290 | G | Deutsche Telekom AG; AB Spectrum LLC; Deutsche Telekom AG.
20160307 | G | Bristol-Myers Squibb Company; Cardioxyl Pharmaceuticals, Inc.; Bristol-Myers Squibb Company.
20160319 | G | Thurman J. Rodgers; Cypress Semiconductor Corporation; Thurman J. Rodgers.
20160323 | G | JR Shaw; BVIP Fund VIII, L.P.; JR Shaw.
20160338 | G | Glanbia Co-operative Society Limited; TSG5 L.P.; Glanbia Co-operative Society Limited.
20160366 | G | Novant Health, Inc.; Novant Health UVA Health System; Novant Health, Inc.
12/04/2015
20160211 | G | Blackstone Tactical Opportunities Fund II; NCR Corporation; Blackstone Tactical Opportunities Fund II.
20160212 | G | Blackstone Capital Partners VI L.P.; NCR Corporation; Blackstone Capital Partners VI L.P.
20160305 | G | Roche Holding Ltd; Upsher-Smith Laboratories, Inc.; Roche Holding Ltd.
20160357 | G | Kinder Morgan, Inc.; Myria Holdings Inc.; Kinder Morgan, Inc.
12/07/2015
20160230 | G | Atlantic Street Capital II, L.P.; Mohammad Honarkar; Atlantic Street Capital II, L.P.
20160303 | G | Tenable Holdings, Inc.; Tenable Network Security, Inc.; Tenable Holdings, Inc.
20160326 | G | John Wood Group PLC; Infinity Construction Holding, LLC; John Wood Group PLC.
20160349 | G | AMN Healthcare Services, Inc.; John D. Smith; AMN Healthcare Services, Inc.
20160353 | G | Triton Container International Limited; TAL International Group, Inc.; Triton Container International Limited.
20160360 | G | Neighborhood Credit Union; Pegasus Community Credit Union; Neighborhood Credit Union.
20160364 | G | Brookfield Infrastructure Partners, L.P.; Myria Holdings Inc.; Brookfield Infrastructure Partners, L.P.
20160371 | G | GCA Holding Corp.; Blackstone RGIS Capital Partners V L.P.; GCA Holding Corp.
20160381 | G | Bain Capital Fund XI, L.P.; H.I.G. Capital Partners IV, L.P.; Bain Capital Fund XI, L.P.
20160384 | G | Revelstoke Capital Partners Fund I, L.P.; Charterhouse Equity Partners IV, L.P.; Revelstoke Capital Partners Fund I, L.P.
20160397 | G | RoundTable Healthcare Partners III, L.P.; W. Whitfield Gardner; RoundTable Healthcare Partners III, L.P.
20160406 | G | Hawkins, Inc.; ICV Partners II, L.P.; Hawkins, Inc.
20160411 | G | Paychex, Inc.; Joel E. Adelman; Paychex, Inc.
12/08/2015
20160261 | G | Sun Capital Partners VI, L.P.; General Electric Company; Sun Capital Partners VI, L.P.
20160294 | G | Letterone Investment Holdings S.A.; MedAssets, Inc.; Letterone Investment Holdings S.A.
20160315 | G | Activision Blizzard, Inc.; King Digital Entertainment plc; Activision Blizzard, Inc.
20160320 | G | Eminence Partners, L.P.; Autodesk, Inc.; Eminence Partners, L.P.
20160321 | G | Eminence Fund, Ltd.; Autodesk, Inc.; Eminence Fund, Ltd.
20160336 | G | LSF9 Atlantis, LP; Atlantic Street Capital II, L.P.; LSF9 Atlantis, LP.
20160363 | G | Howard W. Lutnick; Intercontinental Exchange, Inc.; Howard W. Lutnick.
20160367 | G | Ashford Inc.; Archie Bennett, Jr.; Ashford Inc.
20160368 | G | Ashford Inc.; Monty J. Bennett; Ashford Inc.
20160383 | G | Calumet Concession Partners LLC; Ferrovial Corporacion, S.A.; Calumet Concession Partners LLC.
20160388 | G | New Mountain Partners IV, L.P.; Great Point Partners I, L.P.; New Mountain Partners IV, L.P.
20160392 | G | New Mountain Partners IV, L.P.; ABRY Partners VI, L.P.; New Mountain Partners IV, L.P.
12/09/2015
20160245 | G | Berkshire Fund VIII, L.P.; Archive Systems Holding, Inc.; Berkshire Fund VIII, L.P.
20160373 | G | ACP Investment Fund II-A, L.P.; Michael McMenamin; ACP Investment Fund II-A, L.P.
20160379 | G | Quintana Energy Partners, L.P.; Archer Limited; Quintana Energy Partners, L.P.
20160405 | G | Tenex Capital Partners, L.P.; MVC Capital, Inc.; Tenex Capital Partners, L.P.
12/10/2015
20160313 | G | Elliott Associates, L.P.; CenterPoint Energy, Inc.; Elliott Associates, L.P.
20160316 | G | Berkshire Hathaway, Inc.; Robert and Margaret Petrone; Berkshire Hathaway, Inc.
20160317 | G | Berkshire Hathaway, Inc.; James and Dorothy Petrone; Berkshire Hathaway, Inc.
20160342 | G | Stifel Financial Corp.; Eaton Holdings, LLC; Stifel Financial Corp.
20160377 | G | Perrigo Company plc; AstraZeneca PLC; Perrigo Company plc.
20160389 | G | Interval Leisure Group, Inc.; Starwood Hotels & Resorts Worldwide, Inc.; Interval Leisure Group, Inc.
12/11/2015
20160358 | G | The Walt Disney Company; Steven Spielberg; The Walt Disney Company.
20160359 | G | The Walt Disney Company; Anil D. Ambani; The Walt Disney Company.
20160391 | G | Carl C. Icahn; Xerox Corporation; Carl C. Icahn.
20160414 | G | DCA Acquisition Holdings LLC; Sentinel Capital Partners IV, L.P.; DCA Acquisition Holdings LLC.
20160417 | G | Marubeni Corporation; XL Parts Partnership, Ltd.; Marubeni Corporation.
20160420 | G | Trust 463; SCB Holdings, LLC; Trust 463.
20160422 | G | JAZ Ventures, LP; NRG Energy, Inc.; JAZ Ventures, LP.
20160424 | G | WS Atkins plc; Energy Capital Partners II-A, LP; WS Atkins plc.
20160437 | G | C.R. Bard, Inc.; Liberator Medical Holdings, Inc.; C. R. Bard, Inc.
20160448 | G | Mikhail Prokhorov; Forest City Enterprises, Inc.; Mikhail Prokhorov.
12/14/2015
20160262 | G | Fairholme Funds, Inc.; The St. Joe Company; Fairholme Funds, Inc.
20160428 | G | CVC Scooby Jersey Limited; Petco Holdings, Inc.; CVC Scooby Jersey Limited.
20160432 | G | Dnata; Jeffrey M. Kinsella; Dnata.
20160454 | G | Energy Transfer Equity, L.P.; ConocoPhillips; Energy Transfer Equity, L.P.
12/15/2015
20160370 | G | OCP Trust; Primus Capital Fund VI, LP; OCP Trust.
20160386 | G | ATOS S.E.; Unify Holdings B.V.; ATOS S.E.
20160394 | G | CEOF II DE I AIV, L.P.; WestView Capital Partners II, L.P.; CEOF II DE I AIV, L.P.
20160410 | G | EMP Holdings, Ltd.; MEP Health, LLC; EMP Holdings, Ltd.
20160415 | G | James Mark Burnett and Roma Burnett; MGM Holdings, Inc.; James Mark Burnett and Roma Burnett.
20160425 | G | Ascension Health Alliance; Wheaton Franciscan Services, Inc.; Ascension Health Alliance.
12/16/2015
20160310 | G | Elliott Associates, L.P.; American Capital, Ltd.; Elliott Associates, L.P.
20160311 | G | Elliott International Limited; American Capital, Ltd.; Elliott International Limited.
20160339 | G | Wang Jianlin; SMH Theatres, Inc.; Wang Jianlin.
20160374 | G | The Kroger Co.; Roundy's, Inc.; The Kroger Co.
20160403 | G | Computer Programs and Systems, Inc.; Francisco Partners II, L.P.; Computer Programs and Systems, Inc.
20160404 | G | Francisco Partners II, L.P.; Computer Programs and Systems, Inc.; Francisco Partners II, L.P.
20160427 | G | BlackRock, Inc.; Bank of America Corporation; BlackRock, Inc.
20160429 | G | Dr. Patrick Soon-Shiong; 3BE Holdings, LLC; Dr. Patrick Soon-Shiong.
20160434 | G | Vroom, Inc.; Richard D. Williams; Vroom, Inc.
20160435 | G | Vroom, Inc.; Michael D. Welch; Vroom, Inc.
20160450 | G | Pinnacle Foods Inc.; Boulder Brands, Inc.; Pinnacle Foods Inc.
12/17/2015
20160382 | G | International Business Machines Corporation; BBN Holdings, Inc.; International Business Machines Corporation.
20160438 | G | Spalding Cooperative Elevator Company; All Points Cooperative; Spalding Cooperative Elevator Company.
12/18/2015
20160344 | G | WAFRA Real Assets & Infrastructure Fund I, L.P.; Ronald K. Henriksen; WAFRA Real Assets & Infrastructure Fund I, L.P.
20160421 | G | Wellspring Capital Partners V, L.P.; Mason Wells Buyout Fund II, LP; Wellspring Capital Partners V, L.P.
20160451 | G | Devon Energy Corporation; EnCap Flatrock Midstream Fund II, L.P.; Devon Energy Corporation.
20160453 | G | Comtech Telecommunications Corp.; TeleCommunication Systems, Inc.; Comtech Telecommunications Corp.
20160466 | G | CST Brands, Inc.; The Jones Company; CST Brands, Inc.
20160467 | G | CST Brands, Inc.; Patrick C. Jones; CST Brands, Inc.
20160468 | G | CST Brands, Inc.; James C. Jones III; CST Brands, Inc.
20160472 | G | Welsh Carson Anderson & Stowe XII, L.P.; Total Community Options, Inc.; Welsh Carson Anderson & Stowe XII, L.P.
20160482 | G | Station Holdco LLC; Frank J. Fertitta, III; Station Holdco LLC.
20160483 | G | Station Holdco LLC; Lorenzo J. Fertitta; Station Holdco LLC.
12/21/2015
20160426 | G | Duke Energy Corporation; Piedmont Natural Gas Company, Inc.; Duke Energy Corporation.
20160443 | G | Linde AG; Highland Crusader Offshore Partners; Linde AG.
20160456 | G | Golden Gate Capital Opportunity Fund, L.P.; Jonathan Hershberg; Golden Gate Capital Opportunity Fund, L.P.
20160471 | G | Stichting Administratiekantoor Lauerwecht; The Heritage Group; Stichting Administratiekantoor Lauerwecht.
20160492 | G | Tesoro Corporation; Great Northern Midstream Holdings LLC; Tesoro Corporation.
12/22/2015
20160493 | G | CACI International Inc.; L-3 Communications Holdings, Inc.; CACI International Inc.
20160494 | G | JLL Partners Fund VI, L.P.; Mr. and Mrs. Richard T. Williams; JLL Partners Fund VI, L.P.
12/23/2015
20160162 | G | Blackhawk Network Holdings, Inc.; Jason Wolfe; Blackhawk Network Holdings, Inc.
20160246 | G | Genstar Capital Partners VI, L.P.; Bankrate, Inc.; Genstar Capital Partners VI, L.P.
20160444 | G | Warburg Pincus Private Equity X, L.P.; Financial Engines, Inc.; Warburg Pincus Private Equity X, L.P.
20160445 | G | Financial Engines, Inc.; Warburg Pincus Private Equity X, L.P.; Financial Engines, Inc.
20160446 | G | Carl C. Icahn; The Pep Boys—Manny, Moe & Jack; Carl C. Icahn.
20160455 | G | William H. Gates III; Bunzl plc; William H. Gates III.
20160488 | G | IMS Health Holdings, Inc.; STG III, L.P.; IMS Health Holdings, Inc.
12/28/2015
20151120 | Y | ArcLight Energy Partners Fund VI, L.P.; Cumberland Farms, Inc.; ArcLight Energy Partners Fund VI, L.P.
20160485 | G | TowerBrook Investors IV (Onshore), L.P.; Accretive Health, Inc.; TowerBrook Investors IV (Onshore), L.P.
20160495 | G | Newco Holdings; Southern Glazer's Wine and Spirits, LLC; Newco Holdings.
20160498 | G | RPX Corporation; Clearlake Capital Partners III, L.P.; RPX Corporation.
20160499 | G | Supreme Union Limited; Mindray Medical International Limited; Supreme Union Limited.
20160500 | G | NV Bekaert SA; Blue Topco Ltd; NV Bekaert SA.
20160507 | G | James S. Mahan III; Live Oak Bancshares, Inc.; James S. Mahan III.
20160510 | G | CH Holding L.P.; Derek G. Hennecke; CH Holding L.P.
20160513 | G | John J. Siegel; Peabody Energy Corporation; John J. Siegel.
12/29/2015
20160470 | G | Nordex SE; Acciona S.A.; Nordex SE.
20160511 | G | Louisville Resources LLC; John J. Siegel; Louisville Resources LLC.
12/30/2015
20151680 | G | Rangers Renal Holdings LP; Dialysis Parent, LLC; Rangers Renal Holdings LP.
20160458 | G | Kevin M. Ulrich; Conn's, Inc.; Kevin M. Ulrich.
20160479 | G | BGM Holding, L.P.; BATS Global Markets, Inc.; BGM Holding, L.P.
20160480 | G | ESL Partners, L.P.; Lands End, Inc.; ESL Partners, L.P.
20160496 | G | Lilia Neumann de Sielecky; ACP III AIV, L.P.; Lilia Neumann de Sielecky.
12/31/2015
20160459 | G | Piper Jaffray Companies; Simmons & Company International; Piper Jaffray Companies.
20160489 | G | Owl Creek Overseas Master Fund, Ltd.; Yahoo! Inc.; Owl Creek Overseas Master Fund, Ltd.
20160490 | G | Owl Creek II, L.P.; Yahoo! Inc.; Owl Creek II, L.P.

FOR FURTHER INFORMATION CONTACT: Theresa Kingsberry Program Support Specialist, Federal Trade Commission Premerger Notification Office Bureau of Competition, Room CC-5301, Washington, DC 20024, (202) 326-3100.

By direction of the Commission.
Donald S. Clark,
Secretary.

[FR Doc. 2016-03036 Filed 2-12-16; 8:45 am]

BILLING CODE 6750-01-P